DEPARTMENT OF TRANSPORTATION

Office of the Secretary

Aviation Proceedings, Agreements Filed the Week Ending October 15, 2004

The following Agreements were filed with the Department of Transportation under the provisions of 49 U.S.C. Sections 412 and 414. Answers may be filed within 21 days after the filing of the application

Docket Number: OST-2004-19369.

Date Filed: October 12, 2004.

Parties: Members of the International Air Transport Association.

Subject: PTC23 EUR-SWP 0094 dated 5 October 2004. Mail Vote 407 Europe-South West Pacific r1-r14. Minutes: PTC23 EUR-SWP 0093 dated 24 September 2004. Tables: PTC23 EUR-SWP Fares 0053 dated 5 October 2004. Intended Effective Date: 1 April 2005.

Docket Number: OST-2004-19370.

Date Filed: October 12, 2004.

Parties: Members of the International Air Transport Association.

Subject: PTC23 EUR-J/K 0117 dated 17 September 2004. TC23/TC123 Europe-Japan, Korea Resolutions r1-r23. Minutes: PTC23 EUR-J/K 0118 dated 8 October 2004. Tables: PTC23 EUR-J/K Fares 0061 dated 17 September 2004. Corrections: PTC23 EUR-J/K Fares 0062 dated 24 September 2004. PTC23 EUR-J/K Fares 0063 dated 8 October 2004. Intended Effective Date: 1 April 2005.

Docket Number: OST-2004-19372.

Date Filed: October 12, 2004.

Parties: Members of the International Air Transport Association.

Subject: CTC COMP 0503 dated 15 October 2004. Mail Vote 415—Resolution 033a—CTC2/12/23. Establishing Cargo Rates and Charges from Poland in Zloty (PLN). Intended Effective Date: 1 November 2004.

Docket Number: OST-2004-19373.

Date Filed: October 12, 2004.

Parties: Members of the International Air Transport Association.

Subject: Mail Vote 409, PTC23 ME-TC3 0217 dated 12 October 2004. Middle East-South East Asia Resolutions r1-r16. Minutes: PTC23 ME-TC3 0215 dated 5 October 2004. Tables: PTC23 ME-TC3 Fares 0099 dated 15 October. Intended Effective Date: 15 January 2005, 1 April 2005.

Andrea M. Jenkins,
Program Manager, Federal Register Liaison.

[FR Doc. 04-24060 Filed 10-26-04; 8:45 am]

BILLING CODE 4910-62-P